PRESIDIO TRUST

Notice of Trial Use Limits

SUMMARY: By Federal Register notice of August 20, 2009 (73 FR 42028), the Presidio Trust (“Trust”) announced its proposal to undertake trial temporary traffic-calming and reduction measures for a period up to 45 days in that portion of The Presidio of San Francisco (“Presidio”) under the Trust's administrative jurisdiction (“Area B”), including temporary road closures of certain roads, in order to assess various means that may slow traffic through Area B and reduce cut-through traffic. The Trust also announced its termination of the temporary public use limits no later than 45 days after they commence. In its notice of the trial temporary traffic-calming and reduction measures the Trust solicited public comment through September 21, 2009.

Under 36 CFR 1001.5, the Board of Directors of the Presidio Trust (“Board”) may close all or a portion of Area B to all public use or to a specific use or activity, given a determination that such action is necessary for the maintenance of public health and safety, the protection of environmental or scenic values, or the avoidance of conflict among visitor use activities. The Board has determined that the trial temporary traffic-calming and reduction measures, including temporary road closures of certain roads for a period up to 45 days commencing approximately September 29, 2009, will afford the Trust the opportunity to study and monitor the effects (both positive and negative) of these actions. The Board has authorized these temporary public use limits in Resolution 09-19.

Comments: The Trust received approximately 100 individual comments as well as a petition signed by 128 residents of Area B. The comments generally fall into three categories: (1) Inconvenience—some commented that temporary road closures, specifically the closure of Presidio Boulevard, would create an inconvenience to motorists, both to those who live in the Presidio as well as to those who live outside the park; (2) safety and congestion—some worry that rerouting traffic to other streets might create safety problems, especially on West Pacific Avenue, the roadway adjacent to Julius Kahn Playground; and (3) timing and length of study.

Responses to Comments: In the 2002 Presidio Trust Management Plan, the Trust committed to mitigate traffic impacts as Area B occupancy increased and visitation grew. The Trust has implemented a number of strategies and an array of traffic-calming measures. In March 2009, the Trust took traffic counts at all Presidio gates which allowed the Trust to ascertain what percentage of the cars entering the Presidio simply drove through the park and out another gate. The Trust determined that, while the Trust appears to have succeeded in managing traffic generated by park residents, tenants and visitors, and that the Presidio has sufficient capacity for traffic generated by anticipated land uses in Area B, cut-through traffic has become a major issue representing approximately 50% of the traffic in Area B. With the anticipated transformation of Doyle Drive, the landscape of the Presidio will be changing and new traffic patterns will emerge.

This trial limitation of public use and resulting study will help the Trust in implementing its management responsibilities and in avoiding conflicts among resident, tenant and visitor activities by allowing the Trust to analyze the effects of measures that are intended to slow traffic and to discourage cut-through traffic on Area B's major streets and gateways and through the Presidio's residential neighborhoods. In particular, it will help the Trust plan for the effect the new Doyle Drive/Girard Street interchange may have on the use of Area B streets for cut-through traffic. Further, as implementation of the Presidio's Trail and Bikeways Master Plan continues, the Trust expects the numbers of pedestrian and cyclists using the park to increase. Ensuring the safety of this growing population means prioritizing the traffic movements of park users over traffic unrelated to park uses.

The study will examine the effects of a variety of potential traffic-calming solutions. The challenge is to weigh the benefit of a potentially significant reduction in traffic in the park against the inconvenience of using other routes. Cut-through traffic, especially those vehicles using the Presidio Boulevard gate, is creating congestion elsewhere in the Presidio. During the temporary closures the Trust anticipates a reduction in traffic volume throughout the Presidio. Safety concerns along West Pacific Avenue will be addressed through the addition of a speed cushion, increased United States Park Police enforcement, signage, and altering parking patterns to create a pedestrian zone out of the roadway. The study is scheduled for a brief window before construction of the Doyle Drive Replacement Project begins later in the fall. The study is designed in part to anticipate changes that may come about as a result of Doyle Drive; gathering data before construction begins is essential to undertaking an analysis of the impacts of potential changes. All roads will remain open to MUNI, PresidioGo and emergency vehicles. The Trust has considered public comment and has decided to proceed with the temporary public use limits and to terminate the use limits no later than 45 days after they commence.

Further Information: Further information about the study can be found at http://www.presidio.gov or by contacting Public Affairs (415.561.5418), The Presidio Trust, 34 Graham St., P.O. Box 29052, San Francisco, CA 94129-0052.

Dated: September 22, 2009.
Karen A. Cook,
General Counsel.

[FR Doc. E9-23313 Filed 9-25-09; 8:45 am]

BILLING CODE 4310-4R-P